DEPARTMENT OF HEALTH AND HUMAN SERVICES

National Institutes of Health

National Center for Advancing Translational Sciences; Amended Notice of Meeting

Notice is hereby given of a change in the meeting of the National Center for Advancing Translational Sciences Special Emphasis Panel, September 17, 2024, 08:30 a.m. to September 18, 2024, 03:00 p.m., NIH, 9609 Medical Center Drive, Rockville, MD 20892 which was published in the Federal Register on August 07, 2024, 89 FR 64470.

Amendment to change to meeting format from face-to-face to video assisted meeting and to change the location from Gaithersburg Marriott Washingtonian Center, Gaithersburg, MD to 9609 Medical Center Drive, Rockville, MD. The meeting is closed to the public.

Dated: August 14, 2024.
David W. Freeman,
Supervisory Program Analyst, Office of Federal Advisory Committee Policy.

[FR Doc. 2024-18562 Filed 8-19-24; 8:45 am]

BILLING CODE 4140-01-P